FEDERAL COMMUNICATIONS COMMISSION

Federal Advisory Committee Act

AGENCY: Federal Communications Commission.

ACTION: Notice of Charter Renewal.

SUMMARY: In accordance with the Federal Advisory Committee Act (Pub. L. 92-463), the purpose of this notice is to announce that the Federal Communications Commission (FCC) has renewed the charter for the “WRC-11 Advisory Committee” for a two-year period through May 23, 2010. The WRC-11 Advisory Committee is a federal advisory committee under the Federal Advisory Committee Act.

DATES: Renewed through May 23, 2010.

ADDRESSES: Federal Communications Commission, 445 12th Street, SW.,Room TW-C305, Washington, DC 20554.

FOR FURTHER INFORMATION CONTACT: Alexander Roytblat, Designated Federal Official, WRC-11 Advisory Committee, FCC International Bureau, Strategic Analysis and Negotiations Division, at (202) 418-7501. E-mail: Alexander.Roytblat@fcc.gov.

SUPPLEMENTARY INFORMATION: The GSA has renewed the charter of the WRC-11 Advisory Committee (Committee) through May 23, 2010. The Committee will continue to provide to the FCC advice, technical support, and recommended proposals relating to the preparation of United States proposals and positions for the 2011 World Radiocommunication Conference (WRC-11). The Advisory Committee has been renamed the Advisory Committee for the 2011 Radiocommunication Conference (or simply, WRC-11 Advisory Committee), and its scope of activities has been amended to address issues contained in the agenda for WRC-11. In accordance with the Federal Advisory Committee Act, Pub. L. 92-463, as amended, this notice advises interested persons of the renewal of the WRC-11 Advisory Committee.

Federal Communications Commission.
Helen Domenici,
Chief, International Bureau.

[FR Doc. E8-12011 Filed 5-28-08; 8:45 am]

BILLING CODE 6712-01-P